DEPARTMENT OF TRANSPORTATION

Federal Aviation Administration

Proposed Technical Standard Order (TSO)-C168, Aviation Visual Distress Signals

AGENCY: Federal Aviation Administration (DOT).

ACTION: Notice of availability and requests for public comment.

SUMMARY: This notice announces the availability of and requests comments on proposed Technical Standard Order (TSO)-C168, Aviation Visual Distress Signals. This proposed TSO tells manufacturers and designers of aviation visual distress signals what minimum performance standards (MPS) their equipment must first meet to obtain approval and identification with the applicable TSO marking.

DATES: Comments must identify the TSO and arrive by November 7, 2003.

ADDRESSES: Send all comments on the proposed TSO to: Federal Aviation Administration, Aircraft Certification Service, Aircraft Engineering Division, Technical Programs and Continued Airworthiness Branch, AIR-120, Room 815, 800 Independence Avenue SW., Washington, DC 20591. ATTN: Mr. Dave Rich, AIR-120. Or, deliver comments to: Federal Aviation Administration, Room 815, 800 Independence Avenue SW., Washington, DC 20591.

FOR FURTHER INFORMATION CONTACT: Mr. Dave Rich, Federal Aviation Administration, Aircraft Certification Service, Aircraft Engineering Division, Technical Programs and Continued Airworthiness Branch, AIR-120, Room 815, 800 Independence Avenue SW., Washington, DC 20591. Telephone: (202) 267-7141, fax: (202) 267-5340, e-mail: dave.rich@faa.gov.

SUPPLEMENTARY INFORMATION:

Comments Invited

You may comment on the proposed TSO listed in this notice by sending written data, views, or arguments to the above listed address. You may also examine comments received on the proposed TSO, before and after the comment closing date, in Room 815, FAA Headquarters Building, 800 Independence Avenue, SW., Washington, DC 20591, weekdays except Federal holidays, between 8:30 a.m. and 4:30 p.m. The Director of the Aircraft Certification Service will consider all communications received by the closing date before issuing the final TSO.

Background

This proposed TSO gives the MPS for aviation visual distress signals. The MPS are based on Society of Automotive Engineers, Inc. (SAE) Aerospace Standard (AS) 5134, “Aviation Distress Signals,” dated June 2001. The signals must also meet specific test criterion contained in RTCA Document No. RTCA/DO-160D, “Environmental Conditions and Test Procedures for Airborne Equipment,” Change 4, dated July 29, 1997. This TSO's standards apply to handheld, high-intensity, stroboscopic light sources that can be added to aviation survival kits to supplement pyrotechnic devices. These light sources will significantly eliminate potential equipment and personnel hazards associated with using pyrotechnics devices in inflatable life rafts, by providing an equivalent level of safety that meets or exceeds the current performance standards for pyrotechnics devices that aid in locating and rescuing aviation accident survivors.

How To Get Copies

You may get a copy of the proposed TSO via the Internet at http://www.faa.gov/certification/aircraft/TSOA.htm, or by contacting the person listed in the section titled FOR FURTHER INFORMATION CONTACT.

Issued in Washington, DC, on October 2, 2003.
David W. Hempe,
Manager, Aircraft Engineering Division, Aircraft Certification Service.

[FR Doc. 03-25435 Filed 10-7-03; 8:45 am]

BILLING CODE 4910-13-M